DEPARTMENT OF AGRICULTURE

Office of the Chief Economist; Federal Advisory Committee for the Expert Review of Synthesis and Assessment Product 4.3

AGENCY: Office of the Chief Economist, U.S. Department of Agriculture.

ACTION: Notice of Teleconference.

SUMMARY: The Federal Advisory Committee for the Expert Review of Synthesis and Assessment Product 4.3 (CERSAP) will hold a teleconference on Friday, December 7, 2007. The U.S. Department of Agriculture (USDA) is the lead agency for Climate Change Science Program Synthesis and Assessment Product 4.3 (SAP 4.3) titled, The Effects of Climate Change on Agriculture, Land Resources, Water Resources, and Biodiversity. CERSAP will provide advice to the Secretary of Agriculture on the conduct of this study.

DATES: CERSAP will convene at 11 a.m. Eastern time on Friday, December 7. The teleconference is expected to last no more than 90 minutes. To receive call-in and password information, please contact Dr. Margaret Walsh at 202-720-9978 or mwalsh@oce.usda.gov no later than 5 p.m. Eastern time on Friday, November 30, 2007. Individuals who wish to attend in person must inform Dr. Walsh no later than 5 p.m. Eastern time on Friday, November 30, 2007. A conference room at the U.S. Department of Agriculture, 1400 Independence Avenue, Washington, DC 20250 will be made available for those who wish to attend in person. Upon entry, please have Security call 202-720-8651 for mandatory escort to the teleconference location.

ADDRESSES: The teleconference will be held by telephone, and those interested in participating can do so by obtaining call-in information or using the conference room provided at USDA. Please contact Dr. Margaret Walsh at 202-720-9978 or mwalsh@oce.usda.gov for call-in information and password. Written materials for CERSAP's consideration prior to the meeting must be received by Dr. Margaret Walsh no later than Friday, November 30, 2007. Written materials may be sent to Dr. Margaret Walsh at mwalsh@oce.usda.gov. Individuals who wish to attend in person must inform Dr. Walsh no later than 5 p.m. Eastern time on Friday, November 30, 2007. A conference room at the U.S. Department of Agriculture, 1400 Independence Avenue, Washington, DC 20250 will be made available for those who wish to attend in person. Upon entry, please have Security call 202-720-8651 for mandatory escort to the teleconference location.

FOR FURTHER INFORMATION CONTACT: Dr. Margaret Walsh, Global Change Program Office, U.S. Department of Agriculture, 202-720-9978 or mwalsh@oce.usda.gov.

SUPPLEMENTARY INFORMATION: This is a public meeting. In order to ensure a sufficient number of call-in lines, individuals who would like to participate in this teleconference must RSVP to Dr. Margaret Walsh before Friday, November 30, 2007 for access information. Written materials for CERSAP's consideration prior to the meeting must be received by Dr. Margaret Walsh no later than Friday, November 30, 2007. Individuals may make oral presentations. Those making oral presentations must inform Dr. Walsh when receiving the teleconference information that they plan to do so.

More information on CERSAP and on SAP 4.3 may be found online at http://www.usda.gov/oce/global_change/index.htm, http://www.climatescience.gov/Library/sap/sap4-3/default.php, and http://www.sap43.ucar.edu/.

Draft Meeting Agenda

Friday, December 7, 2007

A. Welcome and Introductions.

B. Update on SAP 4.3.

C. Discussion of Process and Schedule.

D. Public Comment (if applicable).

Time will be reserved for public comment. Individual presentations will be limited to five minutes. Updates to the meeting agenda can be found online at the URLs listed above.

For information on facilities or services for individuals with disabilities, or to request special assistance, please contact Dr. Margaret Walsh. USDA prohibits discrimination on the basis of race, color, national origin, gender, religion, age, sexual orientation, or disability. Additionally, discrimination on the basis of political beliefs and marital or family status is also prohibited by statues enforced by USDA (not all prohibited bases apply to all programs). Persons with disabilities who require alternate means for communication of program information (Braille, large print, audio tape, etc.) should contact the USDA's Target Center at (202) 720-2000 (voice and TDD). USDA is an equal opportunity provider and employer.

Keith Collins,
Chief Economist.

[FR Doc. 07-5689 Filed 11-15-07; 8:45 am]

BILLING CODE 3410-19-M